DEPARTMENT OF ENERGY

Federal Energy Regulatory Commission Notice of Annual Report

[Docket No. RP01-618-000]

Williston Basin Interstate Pipeline Company

October 2, 2001.

Take notice that on September 28, 2001, Williston Basin Interstate Pipeline Company (Williston Basin), tendered for filing, First Revised Sheet No. 358I to its FERC Gas Tariff, Second Revised Volume No. 1, pursuant to Section 39 of that Tariff. The proposed effective date of the tariff sheet is September 28, 2001.

Williston Basin states that as of July 31, 2001 it had a zero balance in FERC Account No. 191. As a result, Williston Basin will neither refund nor bill its former sales customers for any amounts under the conditions of Section No. 39.3.1 of its Tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25216 Filed 10-5-01; 8:45 am]

BILLING CODE 6717-01-P